DEPARTMENT OF COMMERCE

National Oceanic and Atmospheric Administration

Federal Consistency Appeal by John T. Keegan From an Objection by the Puerto Rico Planning Board

AGENCY: National Oceanic and Atmospheric Administration.

ACTION: Notice of closure—administrative appeal decision record.

SUMMARY: This announcement provides notice that the appeal record has been closed for an administrative appeal filed with the Department of Commerce by John T. Keegan.

DATES: The appeal record for the Keegan administrative appeal will close as of October 29, 2003.

ADDRESSES: Materials from the appeal record are available at the Office of the General Counsel for Ocean Services, National Oceanic and Atmospheric Administration, U.S. Department of Commerce, 1305 East-West Highway, Room 6111, Silver Spring, MD 20910.

FOR FURTHER INFORMATION CONTACT: Suzanne Bass, Attorney-Adviser, Office of the Assistant General Counsel for Ocean Services, National Oceanic and Atmospheric Administration, U.S. Department of Commerce, 1305 East-West Highway, Room 6111, Silver Spring, MD 20910 or at (301) 713-2967, extension 213.

SUPPLEMENTARY INFORMATION: John T. Keegan (Appellant) filed a notice of appeal with the Secretary of Commerce (Secretary) pursuant to section 307(c)(3)(A) of the Coastal Zone Management Act of 1972, as amended, 16 U.S.C. 1451 et seq., (CZMA) and the Department of Commerce's implementing regulations, 15 CFR part 930, subpart H (revised, effective January 8, 2001). The appeal is taken from an objection by the Puerto Rico Planning Board (PRPB) to the Appellant's consistency certification for a U.S. Army Corps of Engineers' permit to install 50 helix-screw anchor moorings at Guanica Bay, Guanica, Puerto Rico. The Appellant requested that the Secretary override the PRPB's consistency objections based on the ground that the proposed activity is consistent with the objectives of the CZMA.

The decision of the Secretary is based on information and documents contained in the administrative record. The Keegan appeal administrative decision record includes materials submitted by the parties, the public and interested Federal agencies. It is expected that no further information, briefs or comments will be considered in deciding the appeal.

The CZMA requires that a notice be published in the Federal Register indicating the date on which the decision record has been closed. A final decision on the Keegan appeal is to be issued no later than 90 days after the date of the publication of this notice. 16 U.S.C. 1465(a). The deadline may be extended by publishing (within the 90-day period) a subsequent notice explaining why a decision cannot be issued within the time frame. In this event, a final decision is to be issued no later than 45 days after the date of publication of the subsequent notice. 16 U.S.C. 1465(b).

For additional information about the Keegan appeal contact Suzanne Bass, Attorney-Adviser, Office of the Assistant General Counsel for Ocean Services, National Oceanic and Atmospheric Administration, U.S. Department of Commerce, 1305 East-West Highway, Silver Spring, MD 20910 or at 301-713-2967, extension 213.

Dated: October 21, 2003.
James R. Walpole,
General Counsel.

[FR Doc. 03-27219 Filed 10-28-03; 8:45 am]

BILLING CODE 3510-08-M